DEPARTMENT OF ENERGY

National Coal Council

AGENCY: Department of Energy.

ACTION: Notice of Open Meeting.

SUMMARY: This notice announces one meeting of the National Coal Council (NCC). The Federal Advisory Committee Act (Pub. L. 92-463, 86 Stat. 770) requires that public notice of these meetings be announced in the Federal Register.

DATES: Thursday October 16, 2014, 9:00 a.m. to 12:30 p.m.

ADDRESSES: Gaylord National Hotel, 201 Waterfront Street National Harbor, Oxon Hill, MD 20745.

FOR FURTHER INFORMATION CONTACT: Dr. Robert J. Wright, U.S. Department of Energy, 4G-036/Forrestal Building, 1000 Independence Avenue SW., Washington, DC 20585-0001; Telephone: 202-586-0429

SUPPLEMENTARY INFORMATION:

Purpose of the Council: The National Coal Council provides advice and recommendations to the Secretary of Energy, on general policy matters relating to coal and the coal industry.

Purpose of Meeting: The October 2014 Fall Council meeting of the National Coal Council.

Agenda

1. Call to order and opening remarks by Jeff Wallace, Chair, National Coal Council

2. Remarks by DOE representative (TBD)

3. Presentation by Kimberly Greene, Chief Operating Officer, Southern Company on the future of coal generation in the U.S.

4. Presentation by Julien Dumoulin-Smith, Executive Director-Equity Research Electric Utilities & IPPs Group, UBS Securities LLC on a financial industry analyst perspective on the utility industry

5. Presentation by Ken Medlock, Energy Resource & Economics Fellow, Baker Institute for Public Policy, Rice University on trends in energy resource development and utilization (focus on natural gas)

6. Council Business:

a. Finance report by Finance Committee Chair Greg Workman

b. Coal Policy Committee report by Coal Policy Committee Chair Fred Palmer

c. Communications Committee report by Chair Bill Bissett

d. NCC Business report by NCC Executive Vice President & COO Janet Gellici

7. Other business

8. Adjourn

Public Participation: The meeting is open to the public. If you would like to file a written statement with the Council, you may do so either before or after the meeting. If you would like to make oral statements regarding any item on the agenda, you should contact Dr. Robert J. Wright, 202-586-0429 or robert.wright@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC Web site at: http://www.nationalcoalcouncil.org/.

Issued at Washington, DC, on August 21, 2014.
LaTanya R. Butler,
Deputy Committee Management Officer.

[FR Doc. 2014-20377 Filed 8-26-14; 8:45 am]

BILLING CODE 6450-01-P